DEPARTMENT OF THE INTERIOR

National Park Service

Record of Decision Final General Management Plan/Environmental Impact Statement for the Mary McLeod Bethune Council House National Historic Site, Washington, DC

AGENCY: National Park Service, Interior.

ACTION: Notice of availability.

SUMMARY: The National Park Service has prepared a Final General Management Plan Environmental Impact Statement (GMP/EIS) for Mary McLeod Bethune Council House National Historic Site. Four alternatives were evaluated for guiding the management of the site over the next 15-to-20 years. The alternatives incorporate various management provisions to ensure resource protection and quality visitor experience conditions. The environmental consequences anticipated from implementation of the various alternatives are addressed in the document. Impact topics include cultural resources, visitor use/experience, socioeconomic environment, and site administration and operations.

The purpose of this Record of Decision (ROD) is to document the National Park Service (NPS) selection of the proposed action for the final GMP/EIS. The ROD contains a statement of the decision made, other alternatives considered, the basis for the decision, the environmentally preferable alternative, measures to minimize environmental harm, finding of no impairment of park resources and values, and public involvement.

The NPS will implement the proposed action as described under Alternative 2 in the final GMP/EIS. The primary intent of this alternative is to place a dual emphasis on the Council House, which would be used as a museum, and on the archival collection of African-American women's history. Both the museum and the archives would be expanded and linked by using the archival materials in changing interpretive exhibits and programs. Interpretation would provide a broad and balanced program and in-depth treatment of Dr. Mary McLeod Bethune's role as a public figure and organizer.

In March 2002, NPS distributed the final GMP/EIS to agencies, organizations and individuals on the park's mailing list. Copies of the document were also made available at Mary McLeod Bethune Council House National Historic Site and other NPS sites in addition to the Council House website. The Department of the Interior, National Park Service's notice of availability of the final GMP/EIS was published in the Federal Register on March 22, 2002. The 30-day no-action period has ended permitting the issuance of this record of decision.

FOR FURTHER INFORMATION CONTACT: The final Record of Decision can be obtained in the following ways:

• An electronic version can be found at the following Web site: www.nps.gov/mamc/ or

• By writing: Mary McLeod Bethune Council House Site Manager, 1318 Vermont Avenue, NW., Washington, DC 20005.

Dated: June 27, 2002.
Terry Carlstrom,
Regional Director, National Capital Region, National Park Service.

[FR Doc. 02-22375 Filed 8-30-02; 8:45 am]

BILLING CODE 4310-70-M